FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Argents Air Express Ltd. dba Argents International dba Argents Express Group (NVO & OFF), 206 Waters Edge, Hilton Head Island, SC 29928. Officers: Bradley W. Pinkham, Vice President (Qualifying Individual), Cynthia Chiapetta, Vice President/Secretary. Application Type: Trade Name Change.

B&O Logistics, Inc. (NVO), 19310 Pacific Gateway Drive, Torrance, CA 90502. Officers: Seung T. Hwang, President (Qualifying Individual), Tae K. Lee, Secretary/Treasurer. Application Type: New NVO License.

Charity Cargo L.L.C. (NVO & OFF), 1423 Kaleilani Street, Pearl City, HI 96782. Officer: Jessie A. Luga, Member (Qualifying Individual). Application Type: New NVO & OFF License.

Chaucer Freight LLC (NVO & OFF), 755 N. Rte. 83, Suite 222, Bensenville, IL 60106. Officers: Kathy Orzechowski, Operation Director (Qualifying Individual), Mandy J. Dunn, Member/Manager. Application Type: Add OFF Service.

ENC New York Inc. (NVO & OFF), 182-16 147th Avenue, Jamaica, NY 11413. Officer: Kwang Y. Choi, President/Secretary/Director (Qualifying Individual). Application Type: New NVO & OFF License.

Global Trade & Customs Inc. (NVO & OFF), 250 W. Ocean Blvd., #1714, Long Beach, CA 90802. Officer: Marc Sullivan, President/VP/Secretary/Treasurer (Qualifying Individual). Application Type: New NVO & OFF License.

GreenLine Trade, LLC dba GreenLine Logistics (OFF), 14205 SE 36th, Suite 100, Bellevue, WA 98006. Officers: Irina A. Shneyder, COO (Qualifying Individual), Pille Mandla, Managing Director. Application Type: QI Change.

GSD Logistics, LLC (NVO), 5602 Armour Drive, Houston, TX 77020. Officers: Marc S. Theobald, President (Qualifying Individual), Robert A. Frederick, Member. Application Type: New NVO License.

Guywillship LLC (NVO & OFF), 131-24 228th Street, Laurelton, NY 11413. Officers: Donald Bristol, President (Qualifying Individual), Ingrid Bristol, Vice President. Application Type: New NVO & OFF License.

Major Consolidation Inc. (NVO), 175-41 148th Road, Suite, 1 Jamaica, NY 11434. Officer: Wei-Dong Lu, President/VP/Secretary/Treasurer (Qualifying Individual). Application Type: License Transfer.

Morgan USA Logistics Inc. (NVO), 145-40 157th Street, Suite F1, Jamaica, NY 11434. Officers: James Kwok, Secretary (Qualifying Individual), Kit Hui, President/Vice President/Treasurer. Application Type: New NVO License.

Murphy Shipping & Commercial Services, Inc. dba Murphy Shipping (NVO & OFF), 1812 Peachleaf Street, Houston, TX 77039. Officers: June Adams, Vice President (Qualifying Individual), Ron Johns, President. Application Type: Add NVO Service.

Quality Express, Inc. (NVO), 1861 Western Way, Torrance, CA 90501. Officer: Joseph C. Lam, President/CFO/Secretary/Director (Qualifying Individual). Application Type: QI Change.

Summit Freight International Inc. (NVO), 4885 Rockford Ridge Drive, Marietta, GA 30066. Officers: Tina Chio, CEO/Secretary (Qualifying Individual), Wei Shu, President. Application Type: New NVO License.

Taymegs Impex Inc. (OFF), 2429 S. Collins Street, Arlington, TX 76014. Officers: Michael O. Famuyide, President (Qualifying Individual), Gbade Olaiwole, Vice President. Application Type: New OFF License.

Toll Global Forwarding (Americas) Inc. (NVO & OFF), 800 Federal Blvd., Carteret, NJ 07008. Officers: Myles O'Brien, CEO (Qualifying Individual), Hugh Cushing, Director. Application Type: Name Change.

Transmodal Int'l Freight Consultants Inc. (NVO), 6415 Northwest Drive, #15, Mississauga, ON, Canada. Officers: Sanjeev Bhalla, President (Qualifying Individual), Sushil R. Sarang, Secretary. Application Type: New NVO License.

Universal Logistics Solutions International, Inc. (OFF), 25 West Higgins Road, Hoffmann Estates, IL 60195. Officer: Virginia M. Kidawa, Vice President (Qualifying Individual), David P. Kratt, President. Application Type: Name Change.

WWI International Corp. (OFF), 2223 Clifton Place, Hoffman Estates, IL 60169. Officer: Syed O. Ahmed, President/Corporate Secretary (Qualifying Individual). Application Type: New OFF License.

Dated: May 20, 2011.
Karen V. Gregory,
Secretary.

[FR Doc. 2011-12969 Filed 5-24-11; 8:45 am]

BILLING CODE 6730-01-P